INTERNATIONAL TRADE COMMISSION

[Investigations Nos. 701-TA-202, 731-TA-103, and 731-TA-514 (Second Review)]

Cotton Shop Towels From Bangladesh, China, and Pakistan

AGENCY: United States International Trade Commission.

ACTION: Termination of five-year reviews.

SUMMARY: The subject five-year reviews were initiated in January 2005 to determine whether revocation of the countervailing duty order on cotton shop towels from Pakistan and the antidumping duty orders on cotton shop towels from Bangladesh and China would be likely to lead to continuation or recurrence of material injury to a domestic industry. On April 11, 2005, the Department of Commerce published notice that it was revoking the orders effective February 17, 2005 because “no domestic interested party responded to the sunset review notice of initiation by the applicable deadline” (70 FR 18362). Accordingly, pursuant to section 751(c) of the Tariff Act of 1930 (19 U.S.C. 1675(c)), the subject reviews are terminated.

EFFECTIVE DATE: February 17, 2005.

FOR FURTHER INFORMATION CONTACT: Robert Carpenter (202-205-3172), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).

Authority: These reviews are being terminated under authority of title VII of the Tariff Act of 1930; this notice is published pursuant to section 207.69 of the Commission's rules (19 CFR 207.69).

Issued: April 15, 2005.
By order of the Commission.
Marilyn R. Abbott,
Secretary to the Commission.

[FR Doc. 05-7929 Filed 4-19-05; 8:45 am]

BILLING CODE 7020-02-P